DEPARTMENT OF LABOR

Employment and Training Administration

[TA-W-71,251]

Ancor Specialties: A Division of Hoeganaes Corporation Ridgway, PA; Notice of Revised Determination on Reconsideration

On November 25, 2009, the Department issued an Affirmative Determination Regarding Application for Reconsideration applicable to workers and former workers of the subject firm. The notice was published in the Federal Register on December 11, 2009 (73 FR 65790).

The previous investigation initiated on June 17, 2009, resulted in a negative determination issued on October 15, 2009, was based on the finding that imports of alloyed powders and powder metal parts did not contribute importantly to worker separations at the subject firm and no shift of production to a foreign source occurred.

In the request for reconsideration, the petitioners supplied additional information regarding products manufactured by workers of the subject firm and customers of the subject firm.

Upon further investigation, it was revealed that Ancor Specialties, a division of Hoeganaes Corporation, Ridgway, Pennsylvania manufactured and supplied alloyed powders for powder metal parts and a loss of business with a manufacturer of powder metal parts whose workers were certified eligible to apply for adjustment assistance contributed importantly to the separation or threat of separation of workers at the subject firm.

Conclusion

After careful review of the additional facts obtained on reconsideration, I determine that workers of Ancor Specialties, a division of Hoeganaes Corporation, Ridgway, Pennsylvania, who are engaged in activities related to the production of alloyed powders meet the worker group certification criteria under Section 222(a) of the Act, 19 U.S.C. 2272(a). In accordance with Section 223 of the Act, 19 U.S.C. 2273, I make the following certification:

All workers of Ancor Specialties, a division of Hoeganaes Corporation, Ridgway, Pennsylvania, who became totally or partially separated from employment on or after June 12, 2008, through two years from the date of this certification, and all workers in the group threatened with total or partial separation from employment on date of certification through two years from the date of certification, are eligible to apply for adjustment assistance under Chapter 2 of Title II of the Trade Act of 1974, as amended.

Signed in Washington, DC, this 15th day of January 2010.
Elliott S. Kushner,
Certifying Officer, Division of Trade Adjustment Assistance.

[FR Doc. 2010-1891 Filed 1-29-10; 8:45 am]

BILLING CODE 4510-FN-P